SURFACE TRANSPORTATION BOARD

[Docket No. EP 519 (Sub-No. 4)]

Notice of National Grain Car Council Meeting

AGENCY: Surface Transportation Board.

ACTION: Notice of National Grain Car Council meeting.

SUMMARY: Notice is hereby given of a meeting of the National Grain Car Council (NGCC), pursuant to the Federal Advisory Committee Act.

DATES: The meeting will be held on Thursday, August 15, 2023, beginning at 1:00 p.m. (CDT), and is expected to conclude at 5:00 p.m. (CDT).

ADDRESSES: The meeting will be held at the InterContinental Kansas City at the Plaza, 401 Ward Parkway, Kansas City, MO 64112. Phone (816) 756-1500.

FOR FURTHER INFORMATION CONTACT: Alan Cassiday at (202) 245-0308, (717) 215-0635, or alan.cassiday@stb.gov.

SUPPLEMENTARY INFORMATION: The NGCC was established by the Interstate Commerce Commission (ICC) as a working group to facilitate private-sector solutions and provide recommendations to the ICC (and now the Surface Transportation Board (Board)) on matters affecting rail grain car availability and transportation. Nat'l Grain Car Supply—Conference of Interested Parties, EP 519 (ICC served Jan. 7, 1994).

The general purpose of this meeting is to discuss rail carrier preparedness to transport the 2023 grain harvest. Agenda items include the following: remarks by NGCC Chair Shane Berrett, Board Chairman Martin J. Oberman, Board Vice Chairman and NGCC Co-Chair Karen J. Hedlund, and Board Members Patrick J. Fuchs, Michelle A. Schultz, and Robert E. Primus; reports by member groups on expectations for the upcoming harvest, domestic and foreign markets, the supply of rail cars, and rail service; and market and industry updates. The full agenda will be posted on the Board's website at https://prod.stb.gov/resources/stakeholder-committees/grain-car-council.

The meeting will be conducted pursuant to the Federal Advisory Committee Act, 5 U.S.C. app. 2; Federal Advisory Committee Management, 41 CFR. part 102-3; the NGCC charter; and Board procedures.

If you require an accommodation under the Americans with Disabilities Act for this meeting, please call (202) 245-0245.

Public Attendance: This meeting is physically open to the public on a space-available first come first serve basis. The meeting is also open to the public via Zoom. For login details, please contact Alan Cassiday, Designated Federal Officer for the NGCC, at alan.cassiday@stb.gov.

Public Comments: Members of the public may submit written comments to the NGCC at any time. Comments should be addressed to Alan Cassiday at alan.cassiday@stb.gov. Any further communications about this meeting will be announced through the Board's website, www.stb.gov.

Decided: July 26, 2023.
By the Board, Mai Dinh, Director, Office of Proceedings.
Stefan Rice,
Clearance Clerk.

[FR Doc. 2023-16187 Filed 7-28-23; 8:45 am]

BILLING CODE 4915-01-P